DEPARTMENT OF COMMERCE

Submission for OMB Review; Comment Request

The Department of Commerce will submit to the Office of Management and Budget (OMB) for clearance the following proposal for collection of information under the provisions of the Paperwork Reduction Act (44 U.S.C. chapter 35).

Agency: Minority Business Development Agency.

Title: National Minority Business Awards Program.

OMB Control Number: 0640-0025.

Form Number: None.

Type of Request: Regular Submission.

Number of Respondents: 100.

Average Hours per Response: 2 hours.

Burden Hours: The estimate is an annual average of 200 hours.

Needs and Uses: The collection of information is necessary MBDA is soliciting public comments to permit the agency to receive nominations from the public for the following awards to minority businesses: Minority Construction Firm of the Year, Minority Export Firm of the Year, Minority Manufacturing Firm of the Year, Minority Health Products and Services Firm of the Year, Minority Innovative Technology Firm of the Year, Minority Marketing and Communications Firm of the Year, Minority Professional Services Firm of the Year, Minority Veteran-Owned Firm of the Year, Minority “Under 30” Firm of the Year and MBDA Minority Business Enterprise of the Year award. In addition, MBDA may recognize trailblazers and champions through the Access to Capital Award, Advocate of the Year Award, Distinguished Supplier Diversity Award, Ronald H. Brown Leadership Award, and Abe Venable Legacy Award for Lifetime Achievement.

MBDA must collect two kinds of information to make award nominations: (a) Information identifying the nominee and nominator; and (b) information explaining why the nominee should be given the award. The information will be used to determine those applicants that best meet the preannounced selection criteria. Participation in the MED Week Awards program is voluntary and the awards are strictly honorary.

Affected Public: Individuals, businesses and other for-profit organizations, not-for-profit organizations, and federal, state, local, or tribal governments.

Frequency: Annually.

Respondent's Obligation: Voluntary.

This information collection request may be viewed at www.reginfo.gov. Follow the instructions to view Department of Commerce collections currently under review by OMB.

Written comments and recommendations for the proposed information collection should be sent within 30 days of publication of this notice to OIRA_Submission@omb.eop.gov or fax to (202)395-5806.

Sheleen Dumas,
Departmental Lead PRA Officer, Office of the Chief Information Officer.

[FR Doc. 2018-09274 Filed 5-1-18; 8:45 am]

BILLING CODE 3510-21-P